ENVIRONMENTAL PROTECTION AGENCY

[FRL-6852-8]

Air Quality Criteria for Carbon Monoxide (Final)

AGENCY: Environmental Protection Agency.

ACTION: Notice of availability of a final document.

SUMMARY: The U.S. Environmental Protection Agency (EPA), National Center for Environmental Assessment, is today announcing the availability of a final document, Air Quality Criteria for Carbon Monoxide, EPA 600/P-99/001F, dated June 2000. Required under sections 108 and 109 of the Clean Air Act, the purpose of this document is to provide an assessment of the latest, relevant scientific information that may have an impact on the next periodic review of the National Ambient Air Quality Standards (NAAQS) for carbon monoxide (CO).

ADDRESSES: A limited number of copies of the Air Quality Criteria for Carbon Monoxide are available from the National Service Center for Environmental Publications. Request a copy by telephoning 1-800-490-9198 or 513-489-8190 and providing the title and the EPA number for the document, EPA 600/P-99/001F. Internet users may obtain a copy from the EPA's National Center for Environmental Assessment (NCEA) home page. The URL is http://www.epa.gov/ncea/.

FOR FURTHER INFORMATION CONTACT: Mr. James Raub, National Center for Environmental Assessment-RTP Office (MD-52), U.S. Environmental Protection Agency, Research Triangle Park, NC 27711; telephone: 919-541-4157; facsimile: 919-541-1818; E-mail: raub.james@epa.gov.

SUPPLEMENTARY INFORMATION: Sections 108 and 109 of the Clean Air Act (CAA) require that the EPA carry out a periodic review of the scientific information available for the “criteria” air pollutants such as carbon monoxide and revise, where appropriate, the National Ambient Air Quality Standards (NAAQS) for them. In keeping with these requirements of the CAA, the National Center for Environmental Assessment-RTP, within the Office of Research and Development, has proceeded with review and revision of the CO Air Quality Criteria Document (AQCD). The scientific information selected for assessment in the CO AQCD includes the more recent literature published since completion of the previous CO AQCD in 1990.

As part of EPA's standard AQCD development process, a draft of the revised CO AQCD underwent peer review at a workshop conducted on September 17-18, 1998 (63 FR 47494, September 8, 1998). In addition, two subsequent external review drafts were released for public comment from March to May 1999 (64 FR 13198, March 17, 1999) and October to November 1999 (64 FR 55923, October 15, 1999). The Clean Air Scientific Advisory Committee (CASAC) reviewed the respective external review drafts on June 9, 1999 (64 FR 27784, May 21, 1999) and November 18, 1999 (64 FR 57453, October 25, 1999). Final closure from CASAC was received on January 11, 2000. Revisions in response to the comments received have been incorporated into the final document.

Dated: July 24, 2000.
William H. Farland,
Director, National Center for Environmental Assessment.

[FR Doc. 00-20970 Filed 8-16-00; 8:45 am]

BILLING CODE 6560-50-P